DEPARTMENT OF THE INTERIOR

National Park Service

[NPS-MWR-INDU-10034; 6065-4000-409]

Draft Shoreline Restoration Management Plan and Environmental Impact Statement for Indiana Dunes National Lakeshore

AGENCY: National Park Service, Interior.

ACTION: Notice of availability.

SUMMARY: Pursuant to Section 102(2)(c) of the National Environmental Policy Act of 1969, 42 U.S.C., Section 4332(2)(c), the National Park Service announces the availability of the Draft Shoreline Restoration Management Plan and Environmental Impact Statement, Indiana Dunes National Lakeshore, Indiana.

DATES: The Draft Shoreline Restoration Management Plan and Environmental Impact Statement (SRMP) will be available for public comment for a 60-day public review period. Comments must be received no later than 60 days after the Environmental Protection Agency publishes its notice of availability in the Federal Register. Public meetings will be held; specific dates, times, and locations will be announced in the local media, on the Internet, and will also be available by contacting the park's headquarters at (219) 926-7561, extension 225.

ADDRESSES: A copy of the SRMP is available on the internet on the NPS Planning, Environment, and Public Comment Web site at: http://www.parkplanning.nps.gov/indu. It can also be accessed through the Park's home page at http://www.nps.gov/indu. Copies may be obtained by making a request in writing or picked up in person at Indiana Dunes National Lakeshore, 1100 N. Mineral Springs Road, Porter, Indiana 46304; telephone (219) 926-7561, extension 225.

FOR FURTHER INFORMATION CONTACT: Superintendent Constantine Dillon, Indiana Dunes National Lakeshore, at the address above, or by telephone at (219) 926-7561, extension 225.

SUPPLEMENTARY INFORMATION: The National Park Service (NPS) has prepared a draft SRMP for Indiana Dunes National Lakeshore. The SRMP prescribes the resource conditions and restoration activities intended to maintain the shoreline over the next 15 to 20 years. The project area consists of four reaches of shoreline, Reaches 1 through 4, in an east-to-west direction. The park shoreline is not contiguous because of industrial and navigational structures, state park land, and other non-federal property.

The SRMP presents a range of reasonable management alternatives. Alternative A, the No-Action alternative, describes a continuation of current management practices, and is included as the baseline for comparing consequences of each alternative. Alternatives B, C, and D represent variations on beach nourishment activities. Alternatives B-1 and B-5 discuss beach nourishment using material from an upland source in 1- and 5-year frequencies. Beach nourishment using dredged materials in 1- and 5-year frequencies is described in Alternatives C-1 and C-5, and Alternative D outlines nourishment activities by way of a permanent sediment bypass system. Finally, the use of submerged beach-stabilizing structures is discussed in Alternative E.

The alternatives presented in this plan focus on balancing the quantities of sediment flowing through the shoreline reaches. Over the course of developing the SRMP, the alternatives were fine-tuned to accomplish this task and also address the protection of the shoreline from critical eroding areas, providing habitat opportunities, allowing for natural processes to continue, and rehabilitating the shoreline in a cost-effective manner.

For Reaches 1 and 2, the SRMP considered all alternatives and Alternative E has been selected as the Preferred Alternative. The NPS believes that this alternative provides the best combination of strategies to protect the park's unique resources and visitor experience, while improving the park's operational sustainability. Implementation of the Preferred Alternative in Reaches 1 and 2 would offer a high level of protection of natural resources along the shoreline while providing for a wide range of beneficial uses of the environment.

For Reaches 3 and 4, only dredged sources and the sediment bypass system were viable alternatives (no submerged beach-stabilizing structures in these reaches), and Alternative C-5 has been selected as the Preferred Alternative because the NPS believes that it provides for the most cost efficient and greatest potential for both foredune creation and providing protection from major storm events.

The SRMP describes the potential environmental consequences of the alternatives on coastal processes, including sediment transport and dune formation, aquatic fauna, terrestrial habitat, threatened and endangered plant and animal species, wetlands and pannes, soundscape, visitor experience, and park operations.

The SRMP also presents a discussion on terrestrial management practices as they relate to the visitor experience. As the park is a popular destination for millions of people, the impacts of human activities on the natural resources of the park are ever-present and additive.

We welcome comments on the SRMP. Before including your address, telephone number, electronic mail address, or other personal identifying information in your comments, you should be aware that your entire comment (including your personal identifying information) may be made publicly available at any time. While you can ask us in your comments to withhold your personal identifying information from public review, we cannot guarantee that we will be able to do so. We will make all submissions from organizations or businesses, from individuals identifying themselves as representatives or officials, of organizations or businesses, available for public inspection in their entirety.

Dated: July 27, 2012.
Michael T. Reynolds,
Regional Director, Midwest Region.

[FR Doc. 2012-22557 Filed 9-12-12; 8:45 am]

BILLING CODE 4310- FH-P